ENVIRONMENTAL PROTECTION AGENCY

40 CFR Part 300

[EPA-HQ-SFUND-2005-0011; FRL-9900-68-Region 4]

National Oil and Hazardous Substances Pollution Contingency Plan; National Priorities List: Deletion of the Koppers Co., Inc. (Florence Plant) Superfund Site

AGENCY: Environmental Protection Agency.

ACTION: Final rule.

SUMMARY: The Environmental Protection Agency (EPA) Region 4 announces the deletion of the Koppers Co., Inc. (Florence Plant) Superfund Site (Site) located in Florence, South Carolina, from the National Priorities List (NPL). The NPL, promulgated pursuant to section 105 of the Comprehensive Environmental Response, Compensation, and Liability Act (CERCLA) of 1980, as amended, is an appendix of the National Oil and Hazardous Substances Pollution Contingency Plan (NCP). The EPA and the State of South Carolina, through the South Carolina Department of Health and Environmental Control (SCDHEC), have determined that no further response activities under CERCLA are appropriate. However, this deletion does not preclude future actions under Superfund or other regulatory authority.

DATES: This action is effective September 13, 2013.

ADDRESSES: The EPA has established a docket for this action under Docket Identification No. EPA-HQ-SFUND-2005-0011. All documents in the docket are listed on the http://www.regulations.gov Web site. Although listed in the index, some information is not publicly available, i.e., Confidential Business Information or other information whose disclosure is restricted by statute. Certain other material, such as copyrighted material, is not placed on the Internet and will be publicly available only in hard copy form. Publicly available docket materials are available either electronically through http://www.regulations.gov or in hard copy at the site information repositories. Locations, contacts, phone numbers and viewing hours are:

Regional Site Information Repository: The EPA Record Center, Attn: Ms. Anita Davis, Atlanta Federal Center, 61 Forsyth Street SW., Atlanta, Georgia 30303-8960. Hours of Operation (by appointment only): 8:30 a.m. to 4:00 p.m., Monday through Friday.

Local Site Information Repository: Florence County Library, 509 S. Dargan Street, Florence, South Carolina 29506. Hours of Operation: 9:00 a.m.-8:30 p.m., Monday through Thursday. 9:00 a.m.-5:30 p.m., Friday through Saturday. 2:00 p.m.-6:00 p.m., Sunday.

FOR FURTHER INFORMATION CONTACT: Yvonne Jones, Remedial Project Manager, Environmental Protection Agency, Region 4, 61 Forsyth Street SW., Atlanta, Georgia 30303-8960, 404-562-8793, jones.yvonneo@epa.gov.

SUPPLEMENTARY INFORMATION: The site to be deleted from the NPL is: Koppers Co., Inc. (Florence Plant) Superfund Site (Site) located in Florence, South Carolina. A Notice of Intent to Delete for this Site was published in the Federal Register on April 24, 2013.

The closing date for comments on the Notice of Intent to Delete was May 24, 2013. No public comments were received during the comment period. Therefore, a responsiveness summary was not prepared and placed in both the docket, EPA-HQ-SFUND-2005-0011, on www.regulations.gov, and in the local repositories listed above.

The EPA maintains the NPL as the list of sites that appear to present a significant risk to public health, welfare, or the environment. Deletion from the NPL does not preclude further remedial action. Whenever there is a significant release from a site deleted from the NPL, the deleted site may be restored to the NPL without application of the hazard ranking system. Deletion of a site from the NPL does not affect responsible party liability in the unlikely event that future conditions warrant further actions.

List of Subjects in 40 CFR Part 300

Environmental protection, Air pollution control, Chemicals, Hazardous waste, Hazardous substances, Intergovernmental relations, Penalties, Reporting and recordkeeping requirements, Superfund, Water pollution control, Water supply.

Dated: July 3, 2013.
A. Stanley Meiburg,
Acting Regional Administrator, Region 4.

For reasons set out in the preamble, 40 CFR part 300 is amended as follows:

PART 300—[AMENDED]

1. The authority citation for part 300 continues to read as follows:

Authority: 33 U.S.C. 1321(c)(2); 42 U.S.C. 9601-9657; E.O. 12777, 56 FR 54757, 3 CFR, 1991 Comp., p. 351; E.O. 12580, 52 FR 2923; 3 CFR, 1987 Comp., p. 193.

2. Table 1 of Appendix B to Part 300 is amended by removing “Koppers Co., Inc. (Florence Plant),” “Florence, South Carolina.”

[FR Doc. 2013-21622 Filed 9-12-13; 8:45 am]

BILLING CODE 6560-50-P